DEPARTMENT OF ENERGY

Federal Energy Regulatory Commission

[Project No. 6055-008]

Jeffersonville Hydroelectric Co.; Notice of Availability of Environmental Assessment

In accordance with the National Environmental Policy Act of 1969 and the Federal Energy Regulatory Commission's (Commission or FERC) regulations, 18 CFR part 380, Commission staff reviewed Jeffersonville Hydroelectric Co.'s application to surrender the exemption of the Lake Jefferson Project No. 6055 and have prepared an Environmental Assessment (EA) for the proposed surrender. The exemptee proposes to surrender the exemption by: (1) leaving the turbines and all generating equipment disconnected from the grid; (2) securing the power generation area of the powerhouse/residence by means of a locked barricade; and (3) upon surrender, keeping the lake level as low as possible, mainly through operation of the low-level drain valve. The project is located on the East Branch Callicoon Creek, in Sullivan County, New York, and does not occupy Federal lands.

The EA contains Commission staff's analysis of the potential environmental effects of the proposed surrender of the exemption, and concludes that the proposed surrender, would not constitute a major Federal action that would significantly affect the quality of the human environment.

The final EA may be viewed on the Commission's website at http://www.ferc.gov using the “elibrary” link. Enter the docket number (P-6055-008) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Jeremy Jessup at 202-502-6779 or Jeremy.Jessup@ferc.gov.

Dated: November 6, 2024.
Debbie-Anne A. Reese,
Secretary.

[FR Doc. 2024-26401 Filed 11-13-24; 8:45 am]

BILLING CODE 6717-01-P